FEDERAL COMMUNICATIONS COMMISSION

47 CFR Part 52

[CC Docket No. 95-116; FCC 97-74]

Telephone Numbering Portability

AGENCY: Federal Communications Commission.

ACTION: Final rule; announcement of effective date.

SUMMARY: On March 11, 1997, the Commission released a First Memorandum Opinion and Order on Reconsideration in CC Docket No. 95-116; FCC 97-74 (Order). In that Order the Commission concludes that Query on Release (QOR) is not an acceptable long-term number portability method. Second, the Commission extends the completion deadlines in the implementation schedule for wireline carriers by three months for Phase I and by 45 days for Phase II. A summary of the Order was published in the Federal Register. In that summary, the Commission stated that the modified rules would become effective May 15, 1997. Information collections, however, which are subject to approval by the Office of Management and Budget (OMB), shall become effective upon approval by OMB, but no sooner than September 12, 1997. A document announcing the information collections approval by OMB will be published in the Federal Register at a later date. This document announces the effective date of the amendments to our rules for numbering that contained information collection requirements.

DATES: Sections 52.23 and 52.31 and the Appendix to Part 52, published at 62 FR 18280, April 15, 1997, were approved by the Office of Management and Budget (OMB) on August 9, 1997. The OMB approval of the information collection requirements contained in these rules was announced in the Federal Register on August 28, 1997. OMB approved the collections on August 9, 1997, however, the rules that contained information collections should not have become effective no sooner than September 12, 1997. Therefore, the rules became effective on September 12, 1997.

FOR FURTHER INFORMATION CONTACT: Pam Slipakoff, Attorney, Telecommunications Access Policy Division, Wireline Competition Bureau, (202) 418-7400.

SUPPLEMENTARY INFORMATION: On March 11, 1997, the Commission released a First Memorandum Opinion and Order on Reconsideration in CC Docket No. 95-116; FCC 97-74 (Order). In that Order the Commission concludes, first, that Query on Release (QOR) is not an acceptable long-term number portability method. Second, the Commission extends the completion deadlines in the implementation schedule for wireline carriers by three months for Phase I and by 45 days for Phase II, clarifies the requirements imposed there under, concludes that LECs need only provide number portability within the 100 largest MSAs in switches for which another carrier has made a specific request for portability, and addresses issues raised by rural LECs and certain other parties. Finally, the Commission affirms and clarifies its implementation schedule for wireless carriers. A summary of the Order was published in the Federal Register. See 62 FR 18280, April 15, 1997. In that summary, the Commission stated that the modified rules would become effective May 15, 1997. Information collections, however, which are subject to approval by the Office of Management and Budget (OMB), shall become effective upon approval by OMB, but no sooner than September 12, 1997. A document announcing the information collections approval by OMB will be published in the Federal Register at a later date. On August 9, 1997, OMB approved the information collections. See OMB No. 3060-0742. The rule amendments adopted by the Commission in the Order took effect May 15, 1997. The OMB approval of the information collection requirements was announced in the Federal Register on August 28, 1997, however, the effected rules took effect on September 12, 1997.

List of Subjects in 47 CFR Part 52

Communications common carriers, Telecommunications, Telephone.

Federal Communications Commission.
Marlene H. Dortch,
Secretary.

[FR Doc. 03-18365 Filed 7-18-03; 8:45 am]

BILLING CODE 6712-01-P